SECURITIES AND EXCHANGE COMMISSION

[Release No. 34-77123; File No. 4-533]

Joint Industry Plan; Notice of Filing of Amendment No. 3 to the National Market System Plan for the Selection and Reservation of Securities Symbols Submitted by Financial Industry Regulatory Authority, Inc., BATS Exchange, Inc., BOX Options Exchange, LLC, Chicago Board Options Exchange, Incorporated, Chicago Stock Exchange, Inc., EDGA Exchange, Inc., EDGX Exchange, Inc., International Securities Exchange, LLC, NASDAQ OMX BX, Inc., NASDAQ OMX PHLX, Inc., The Nasdaq Stock Market LLC, National Stock Exchange, Inc., New York Stock Exchange, LLC, NYSE MKT, LLC, and NYSE Arca, Inc.

February 11, 2016.

On August 24, 2015, Financial Industry Regulatory Authority, Inc. (“FINRA”), on behalf of the following parties to the National Market System Plan for the Selection and Reservation of Securities Symbols (the “Plan”): BATS Exchange, Inc. (“BATS”), BOX Options Exchange, LLC (“BOX”), Chicago Board Options Exchange, Incorporated (“CBOE”), Chicago Stock Exchange, Inc. (“CHX”), EDGA Exchange, Inc. (“EDGA”), EDGX Exchange, Inc. (“EDGX”), FINRA, International Securities Exchange, LLC (“ISE”), NASDAQ OMX BX, Inc. (“BX”), NASDAQ OMX PHLX, Inc. (“Phlx”), The Nasdaq Stock Market LLC (“Nasdaq”), National Stock Exchange, Inc. (“NSX”), New York Stock Exchange, LLC (“NYSE”), NYSE MKT, LLC (“NYSE MKT”), and NYSE Arca, Inc. (“NYSE Arca”) (collectively with FINRA, the “Parties”), filed with the Securities and Exchange Commission (“Commission”), pursuant to Section 11A of the Securities Exchange Act of 1934 (“Act”) ¹ and Rule 608 thereunder,² a proposal to amend the Plan.³ The proposal represents the third substantive amendment to the Plan (“Amendment”) and reflects changes unanimously approved by the Parties.⁴ The Amendment to the Plan proposes to revise Section IV(d) of the Plan (Reuse of a Symbol) to provide that, where a Party ceases to use a symbol, such party may elect to release the symbol and that such symbol may not be reused to identify a new security (other than the security that has been trading under such symbol) within 90 calendar days from the last day of its use to identify the old security, without the consent of the Party that released the symbol. In addition, a Party may not reuse (or consent to the reuse of) a symbol to identify a new security unless such Party reasonably determines that such use would not cause investor confusion. The Commission is publishing this notice to solicit comments from interested persons on the Amendment to the Plan.⁵

¹ 15 U.S.C. 78k-1.

² 17 CFR 242.608.

³ The Plan provides an orderly process for Parties to reserve available ticker symbols for equity securities. Specifically, each party to the Plan may reserve a set number of 1-, 2-, or 3-character symbols and a set number of 4- or 5-character symbols. In the case of 1-, 2-, or 3-character symbols, each party may reserve up to 20 symbols perpetually (i.e., without a time limit on the reservation) as “List A reservations,” and 1,500 symbols for 24 months (i.e., with a 24-month expiration on the reservation) as “List B reservations.” Each party also may reserve the same number of symbols on a separate “List A” and a separate “List B” for 4- or 5-character symbols.

⁴ On November 6, 2008, the Commission approved the Symbology Plan that was originally proposed by the CHX, Nasdaq, FINRA, NSX, and Phlx, subject to certain changes. See Securities Exchange Act Release No. 58904, 73 FR 67218 (November 13, 2008) (File No. 4-533). On November 18, 2008, the ISE, and on December 22, 2008, NYSE, NYSE Arca, NYSE MKT (f/k/a “NYSE Alternext US, LLC”) and CBOE, and on December 24, 2008, NASDAQ OMX BX, filed amendments to join the Plan, which amendments became immediately effective upon filing. See Securities Exchange Act Release No. 59024 (November 26, 2008), 73 FR 74538 (December 8, 2008) (File No. 4-533) (ISE filing to join the Plan); Securities Exchange Act Release No. 59162 (December 24, 2008), 74 FR 132 (January 2, 2009) (File No. 4-533) (NYSE, NYSE Arca, NYSE Alternext US LLC and CBOE filing to join the Plan); and Securities Exchange Act Release No. 59187 (December 30, 2008), 74 FR 729 (January 7, 2009) (File No. 4-533) (NASDAQ OMX BX filing to join the Plan). On January 5, 2009 and March 6, 2009, the Parties amended the plan to modify certain effective dates in the Plan, which amendments became immediately effective upon filing. See Securities Exchange Act Release No. 59225 (January 9, 2009), 73 FR 3117 (January 16, 2009) (File No. 4-533) (Amendment No. 1); and Securities Exchange Act Release No. 59574 (March 13, 2009), 74 FR 11981 (March 20, 2009) (File No. 4-533) (Amendment No. 2). On September 30, 2009, BATS, on July 7, 2010, EDGA and EDGX, and on May 7, 2012, BOX, filed amendments to join the Plan, which amendments became immediately effective upon filing. See Securities Exchange Act Release No. 60856 (October 21, 2009), 74 FR 55276 (October 27, 2009) (File No. 4-533) (BATS filing to join the Plan); Securities Exchange Act Release No. 62573 (July 26, 2010), 75 FR 45682 (August 3, 2010) (File No. 4-533) (EDGA and EDGX filing to join the Plan); and Securities Exchange Act Release No. 66957 (May 10, 2012), 77 FR 28904 (May 16, 2012) (File No. 4-533) (BOX filing to join the Plan).

⁵ 17 CFR 242.608(b)(1).

I. Description and Purpose of the Amendment

The Plan was created to enhance the effectiveness and efficiency of the national market system and to provide for fair competition between the self-regulatory organizations (“SROs”) by establishing a uniform system for the selection and reservation of securities symbols. The Plan, among other things, sets forth the process for securing perpetual and limited-time reservations, the use of a waiting list, the right to reuse a symbol and the ability to request the release of a symbol.

Under Section IV(d) of the current Plan, if a Party ceases to use a symbol, such Party automatically has that symbol reserved for a period of 24 months, notwithstanding any other limits on the number of reserved symbols specified in the Plan.⁶ However, in the event that the Party ceasing to use the symbol neither: (1) Places the symbol on its List A, or (2) uses the symbol within 24 months, the symbol is released for use pursuant to Section IV(b)(5) (Non-Use or Release of Symbols Within Time Period). In such cases, the symbol may be reused by a different Party to identify a new security in accordance with the procedures set forth in the Plan. Section IV(d) of the Plan provides that a symbol may not be reused by a Party to identify a new security unless the Party reasonably determines that such use would not cause investor confusion. Thus, even where a Party releases a symbol for reuse, such symbol may not be reused to identify a new security if such use would cause investor confusion in the judgment of the party seeking to reuse the symbol.

⁶ Except that, pursuant to paragraph (f) of Section IV (Portability of Symbols in Use), if a new SRO lists a security or product that previously was listed on another SRO, the new SRO has the right to that symbol unless, in its discretion, it consents to the symbol being retained by the former SRO.

The Parties are amending Section IV(d) of the Plan to clarify that, if a Party ceases use of a symbol, such Party may elect to release the symbol pursuant to paragraph (b)(5) of the Plan. If a Party does not release the symbol, such symbol shall automatically be reserved for such Party for 24 months, as further described in the Plan. The proposed amendments further clarify that, if the Party does not place the symbol on List A or use the symbol within 24 months, the symbol shall be released for use pursuant to subparagraph (b)(5).

The amendment also proposes a new requirement. Specifically, that where a symbol has become available for reuse by a new Party (e.g., where a Party releases a symbol), such symbol may not be reused to identify a new security (other than the security that has been trading under such symbol) within 90 calendar days from the last day of its use to identify the old security, without the consent of the Party that released the symbol pursuant to paragraph (b)(5) of Section IV. Thus, even where a symbol is not reserved for the Party most recently using the symbol, the amended Plan would continue to provide for a fair and orderly approach with regard to the reuse of the symbol.

For example, the amendment would address situations where a Party had been using symbol WXYZ for a period of years to identify the security of a particular company and, following the dissolution of the company, symbol WXYZ is released by the Party that had been using it. Under the current Plan, the Party using WXYZ to identify the security of the dissolved company would have that symbol reserved for a period of 24 months, and, at any time within this 24-month period, pursuant to Section IV(b)(6) (Request for Release of a Symbol), any other Party may have requested the voluntary release of the symbol for reuse. The amendment to the Plan retains this same basic framework, but also explicitly addresses circumstances in which a Party does not reserve the symbol but elects to release the symbol pursuant to paragraph (b)(5), in which case the symbol becomes immediately available to be reused by another Party to identify a different security. Under the amendment to the Plan, at any time within 90 calendar days from the last day of its use to identify the old security, such symbol may not be reused to identify a new security unless the Party seeking to reuse the symbol obtains the consent of the Party that most recently released the symbol. The Party most recently releasing the symbol must reasonably determine that reuse would not cause investor confusion prior to providing its consent.

As is the case today, at no time may a Party reuse a symbol unless the Party seeking the reuse also reasonably determines that such use would not cause investor confusion. In making a reasonable determination as to whether the reuse of a symbol would cause investor confusion, Parties would consider factors such as the level of recent activity in the old security, including trading frequency, volume and the number of market maker quotes.

The Amendment also contains several technical and ministerial amendments. First, the Plan is being amended to update NSX's principal place of business from its former address of 440 South LaSalle Street, Suite 2600, Chicago, IL 60605 to its new address of 101 Hudson Street, Suite 1200, Jersey City, NJ 07302. This Amendment also reflects a name change by one of the Parties. Specifically, the “NYSE Alternext US LLC” is now called “NYSE MKT LLC.” Finally, the Parties also are amending the Plan to update the principal place of business for both EDGA and EDGX from its former address at 545 Washington Blvd., Jersey City, NJ 07310 to 8050 Marshall Drive, Lenexa, KS 66214.

The Parties believe that the Amendment provides for a fair and orderly approach that would be applied consistently by all Parties to facilitate investor protection, does not disparately affect any single Party, and thus, does not impose any burden on competition that is not necessary or appropriate in furtherance of the purposes of the Act.

II. Implementation of Plan Amendment

The Parties will implement the Amendment upon Commission approval.

III. Solicitation of Comments

Interested persons are invited to submit written data, views, and arguments concerning the foregoing, including whether the Amendment is consistent with the Act. Comments may be submitted by any of the following methods:

Electronic Comments

• Use the Commission's Internet comment form (http://www.sec.gov/rules/sro.shtml); or

• Send an email to rule-comments@sec.gov. Please include File Number 4-533 on the subject line.

Paper Comments

• Send paper comments in triplicate to Brent J. Fields, Secretary, Securities and Exchange Commission, 100 F Street NE., Washington, DC 20549-1090.

All submissions should refer to File Number 4-533. This file number should be included on the subject line if email is used. To help the Commission process and review your comments more efficiently, please use only one method. The Commission will post all comments on the Commission's Internet Web site (http://www.sec.gov/rules/sro.shtml). Copies of the submission, all subsequent amendments, all written statements with respect to the Plan that are filed with the Commission, and all written communications relating to the Plan between the Commission and any person, other than those that may be withheld from the public in accordance with the provisions of 5 U.S.C. 552, will be available for Web site viewing and printing in the Commission's Public Reference Room, 100 F Street NE., Washington, DC 20549 on official business days between the hours of 10:00 a.m. and 3:00 p.m. Copies of such filing also will be available for inspection and copying at the Parties' principal offices. All comments received will be posted without change; the Commission does not edit personal identifying information from submissions. You should submit only information that you wish to make available publicly. All submissions should refer to File Number 4-533, and should be submitted on or before March 10, 2016.

By the Commission.
Robert W. Errett,
Deputy Secretary.

[FR Doc. 2016-03275 Filed 2-17-16; 8:45 am]

BILLING CODE 8011-01-P